NUCLEAR REGULATORY COMMISSION

[Docket No. 50-160]

Georgia Institute of Technology, Georgia Institute of Technology Research Reactor; Notice of Approval of Decommissioning Plan and Notice of License Termination

The U.S. Nuclear Regulatory Commission (NRC) is noticing the approval of the decommissioning plan for the Georgia Institute of Technology (GT or the licensee) GT Research Reactor (GTRR) and is also noticing the termination of Facility Operating License No. R-97 for the GTRR.

The NRC has terminated the license of the decommissioned GTRR, which was in the Neely Nuclear Research Center in the north-central part of the GT campus in the city of Atlanta, Georgia, and has released the site for unrestricted use. The licensee requested termination of the license in a letter to NRC dated June 14, 2002. The GTRR was a 5 MW thermal, heavy-water-moderated, -cooled, and -reflected reactor that was fueled with uranium aluminum alloy plates. It was licensed and first operated in 1964 and had a licensed thermal power level of 1 MW, which was upgraded to 5000 kW thermal in 1974. The reactor was permanently shut down on November 17, 1995. The licensee submitted a decommissioning plan to NRC for review and approval in letters dated July 1, 1998, and February 8 and May 28, 1999. The decommissioning plan was approved by License Amendment No. 14 issued on July 22, 1999.

A “Notice and Solicitation of Comments Pursuant to 10 CFR 20.1405 and 10 CFR 50.82(b)(5) Concerning Proposed Action To Decommission Georgia Institute of Technology Georgia Tech Research Reactor” appeared in the Federal Register on February 1, 1999 (64 FR 4902). All comments received were considered by the staff during the review of the GTRR Decommissioning Plan.

The NRC completed its review of the GTRR Final Status Survey Report dated June 2002, which was submitted by the licensee to NRC by letter dated June 14, 2002. The report documented the level of residual radioactivity remaining at the facility and stated that compliance with the criteria as approved in the NRC-approved decommissioning plan had been demonstrated.

Pursuant to 10 CFR 50.82(b)(6), the NRC staff has concluded that the decommissioning has been performed in accordance with the approved decommissioning plan and that the terminal radiation survey and associated documentation demonstrate that the facility and site are suitable for release in accordance with the criteria in the NRC-approved decommissioning plan. Further, on the basis of the decommissioning activities conducted by GT, the NRC's review of the licensee's final status survey report, the results of NRC inspections conducted at the GTRR, and the results of NRC confirmatory surveys, the NRC has concluded that the decommissioning process is complete and the facility and site are suitable to be released for unrestricted use. Based on the NRC staff's conclusions, Facility Operating License No. R-97 is terminated.

For further details see the licensee's application for decommissioning dated July 1, 1998, and February 8 and May 28, 1999; the July 22, 1999, License Amendment No. 14 to Facility Operating License No. R-97; the licensee's request for license termination dated June 14, 2002; the GTRR Final Status Survey Report dated June 2002, which was submitted to NRC by letter dated June 14, 2002; and NRC Inspection Report No. 50-160/2002-20, dated June 24, 2003, and corrected July 17, 2003. Documents may be examined, and/or copied for a fee, at the NRC's Public Document Room (PDR), at One White Flint North, 11555 Rockville Pike (first floor), Rockville, Maryland. Publicly available records for GT dated after January 30, 2000, will be accessible electronically from the Agencywide Documents Access and Management System (ADAMS) Public Electronic Reading Room on the Internet at the NRC Web site, http://www.nrc.gov/reading-rm/adams.html. Persons who do not have access to ADAMS or who encounter problems in accessing the documents located in ADAMS should call the NRC PDR reference staff at 1-800-397-4209 or 301-415-4737 or e-mail pdr@nrc.gov.

Dated in Rockville, Maryland, this 2nd day of December, 2003.
For the Nuclear Regulatory Commission.
Marvin M. Mendonca,
Acting Section Chief, Research and Test Reactors Section, New, Research and Test Reactors Program, Division of Regulatory Improvement Programs, Office of Nuclear Reactor Regulation.

[FR Doc. 03-30588 Filed 12-9-03; 8:45 am]

BILLING CODE 7590-01-P